ENVIRONMENTAL PROTECTION AGENCY

[FRL-6972-3]

Agency Information Collection Activities: Proposed Collection; Comment Request; Consumer Confidence Reports for Community Water Systems

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Consumer Confidence Reports for Community Water Systems, EPA ICR No.1832.03, OMB No. 2040-0201. The current ICR approval expires on 9/30/01. Before submitting the ICR to OMB for review and approval, EPA is soliciting comments on the proposed information collection as described below.

DATES: Comments must be submitted on or before July 2, 2001.

ADDRESSES: To obtain a copy of the currently approved Information Collection Request for Consumer Confidence Reports for Community Water Systems without charge, please contact the Safe Drinking Water Hotline (800-426-4791). Hours of operation are 9 a.m. to 5:30 p.m. (ET), Monday-Friday, excluding Federal holidays. Copies are also available from the Office of Water Resource Center (RC4100), U.S. EPA Headquarters, 401 M Street SW, Washington DC 20460. People interested in getting information or making comments aobut the Consumer Confidence Reports for Community Water Systems ICR should direct inquiries or comments to the Office of Ground Water and Drinking Water, Drinking Water Protection Division, Mail Code 4606, 1200 Pennsylvania Avenue, NW, Washington DC 20460.

FOR FURTHER INFORMATION CONTACT: Kathleen A. Williams, EPA, Office of Ground Water and Drinking Water, Drinking Water Protection Division (202)-260-2589, fax (202)-401-2345, email: williams.kathleena@epa.gov.

SUPPLEMENTARY INFORMATION: Affected entities: Entities potentially affected by this action are owners and operators of community water systems, primacy agents including regulators in the States, Puerto Rico, the U.S. Trust Territories; Indian Tribes and Alaska Native Villages, and in some instances U.S. EPA Regional Administrators and staff.

Title: Consumer Confidence Reports for Water Systems Information Collection Request (OMB Control No. 2040-0201; EPA ICR No. 1832.02), expiring 9/30/01.

Abstract: Section 114 of the Safe Drinking Water Act (SDWA) of 1996, enacted August 6, 1996, amended section 1414(c) of the Act to require community water systems (CWSs) to send an annual Consumer Confidence Report (CCR) to their customers. EPA codified these provisions under subpart O of 40 CFR part 141, the Consumer Confidence Report Rule. The CCR Rule requires, at a minimum, that each CWS mail to each of its customers an annual report on quality of drinking water provided by the system. The information in the report is information that the CWS already collects pursuant to other drinking water regulations. Reports must contain information on the source of water provided, levels of detected contaminants, violations of any national primary drinking water regulations, and health information concerning drinking water and potential risks from detected contaminants. An agency may not conduct or sponsor, and a person is not required to respond to, a collection of information unless it displays a currently valid OMB control number. The OMB control numbers for EPA's regulations are listed in 40 CFR part 9 and 48 CFR chapter 15.

The EPA would like to solicit comments to: (i) Evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. In the EPA ICR No. 1832.02, OMB No. 2040-0201 for 1998-2001, the total burden was estimated to be approximately: 459,674 hours at an annual cost of $20,807,555. The estimated number of respondents was 47,040 community water systems. We expect that the burden for the continuing ICR for 2002-2004 will remain the same. Any recommendations from the drinking water community and the general public on this issue will be given consideration by the Agency.

Dated: April 25, 2001.
Phil Oshida,
Acting Director, Office of Ground Water and Drinking Water.

[FR Doc. 01-10992 Filed 5-1-01; 8:45 am]

BILLING CODE 6560-50-P